NATIONAL FOUNDATION ON THE ARTS AND THE HUMANITIES

National Endowment for the Arts; Proposed Collection; Comment Request

ACTION: Correction.

SUMMARY: This document corrects the date for comments regarding the National Endowment for the Arts (NEA) proposed data collection for the national Survey of Public Participation in the Arts that was published in the Federal Register on November 6, 2006 (Vol. 71, No. 214, page 65007). The correct date for the submission of written comments to the office listed in the address section below is on or before January 7, 2007.

ADDRESSES: Tom Bradshaw, National Endowment for the Arts, 1100 Pennsylvania Avenue, NW., Room 616, Washington, DC 20506-0001, telephone (202) 682-5527 (this is not a toll-free number), fax (202) 682-5677.

Murray Welsh,
Director, Administrative Services, National Endowment for the Arts.

[FR Doc. E6-19872 Filed 11-22-06; 8:45 am]

BILLING CODE 7537-01-P